INTERNATIONAL TRADE COMMISSION

[Investigation No. 337-TA-1178]

Certain Collapsible and Portable Furniture; Notice of a Commission Determination To Review in Part a Final Initial Determination and To Affirm With Modifications the Finding of No Violation of Section 337; Termination of the Investigation

AGENCY: U.S. International Trade Commission.

ACTION: Notice.

SUMMARY: Notice is hereby given that the U.S. International Trade Commission (“Commission”) has determined to review in part the Administrative Law Judge's (“ALJ”) final initial determination (“FID”), issued on February 18, 2021, and to affirm with modifications the FID's finding of no violation of section 337 in the above-referenced investigation. The investigation is terminated.

FOR FURTHER INFORMATION CONTACT: Benjamin S. Richards, Esq., Office of the General Counsel, U.S. International Trade Commission, 500 E Street SW, Washington, DC 20436, telephone (202) 708-5453. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on October 3, 2019. 84 FR 52896 (Oct. 3, 2019). The complaint, as amended, filed by GCI Outdoor, Inc., of Higganum, Connecticut (“GCI”), alleges violations of section 337 of the Tariff Act of 1930, as amended, 19 U.S.C. 1337, in the importation into the United States, the sale for importation, or the sale within the United States after importation of certain collapsible and portable furniture by reason of infringement of certain claims of U.S. Patent No. 9,282,824 (“the '824 patent”) and U.S. Patent No. 9,060,611 (“the '611 patent”). Id. at 52896-97. The complaint further alleges that a domestic industry exists. Id. at 52897. The Commission's notice of investigation named the following respondents: Denovo Brands, LLC of Bentonville, Akansas; Zhenli (Zhangzhou) Industrial Co., Ltd. of Zhangzhou, Fujian, China; Fujian Zenithen Consumer Products Co., Ltd. of Fuzhou, Fujian, China; Zenithen Hong Kong Ltd. of Hong Kong; Zenithen USA LLC of Upland, California; Westfield Outdoor, Inc., d/b/a Westfield Outdoors of Indianapolis, Indiana; MacSports Inc. of La Verne, California; Meike (Qingdao) Leisure Products Co., Ltd of Qing Dao, China. Id. The Office of Unfair Import Investigations is not participating in the investigation. Id.

During the course of the investigation, respondents Fujian Zenithen Consumer Products Co., Ltd., Zenithen Hong Kong Ltd., and Zenithen USA LLC were terminated from the investigation. The remaining respondents are Denovo Brands, LLC and Zhenli (Zhangzhou) Industrial Co., Ltd. (the “Denovo” respondents); Westfield Outdoor, Inc. (“Westfield”); and MacSports Inc. and Meike (Qingdao) Leisure Products Co., Ltd (the “MacSports” respondents) (collectively, “Respondents”).

On February 18, 2021, the ALJ issued his FID in this investigation. The FID found no violation of section 337. For the '824 patent, the FID found that GCI established infringement by Denovo's products but failed to establish that GCI satisfied the technical prong of the domestic industry requirement. The FID also found that Denovo did not establish that any of the asserted claims of the '824 patent is invalid. For the '611 patent, the FID found that GCI failed to establish infringement by Westfield's and MacSports' products but did establish that GCI satisfied the technical prong of the domestic industry requirement. The FID also found that Westfield and MacSports did not establish that any of the asserted claims of the '611 patent is invalid. The FID additionally found that GCI established that it satisfied the economic prong of the domestic industry requirement for both asserted patents.

On March 2, 2021 the parties submitted petitions seeking review of the FID. On March 10, 2021, the parties submitted responses to the others' petitions.

Having examined the record of this investigation, including the FID, the petitions for review, and the responses thereto, the Commission has determined to review the FID with respect to (1) all of the FID's findings concerning the '824 patent; (2) infringement and validity of the '611 patent; and (3) the FID's findings concerning the economic prong of the domestic industry requirement. The Commission has determined not to review the remainder of the FID.

On review, the Commission has determined to affirm the FID's finding of no violation of section 337 with regard to the '824 patent and the '611 patent. In connection with that determination the Commission has also determined to modify and supplement certain of the FID's subsidiary findings. The Commission has also determined to take no position on certain portions of the FID. The Commission opinion is issued concurrently herewith.

The investigation is hereby terminated.

The Commission vote for this determination took place on May 6, 2021.

The authority for the Commission's determination is contained in section 337 of the Tariff Act of 1930, as amended (19 U.S.C. 1337), and in Part 210 of the Commission's Rules of Practice and Procedure (19 CFR part 210).

By order of the Commission.
Issued: May 6, 2021.
Lisa Barton,
Secretary to the Commission.

[FR Doc. 2021-09989 Filed 5-11-21; 8:45 am]

BILLING CODE 7020-02-P